CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the Spirit of Service Award Nomination Guidelines for Senior Corps, AmeriCorps, and Learn and Serve America. On March 11, 2004, these information collections were granted a six month emergency approval until September 30, 2004, by OMB.

DATES: Written comments must be submitted to the office listed in the ADDRESSES section by June 1, 2004.

ADDRESSES: You may submit written input to the Corporation by any of the following methods:

(1) Electronically through the Corporation's e-mail address system to Ms. Shannon Maynard at smaynard@cns.gov.

(2) By fax to (202) 565-2784, Attention Ms. Shannon Maynard.

(3) By mail sent to: Corporation for National and Community Service, Attn: Ms. Shannon Maynard, Public Affairs Associate, 1201 New York Avenue, NW., Station 8613, Washington, DC 20525.

(4) By hand delivery or by courier to the Corporation's mailroom at Room 6010 at the mail address given in paragraph (3) above, between 9 a.m. and 4 p.m. Monday through Friday, except Federal holidays.

FOR FURTHER INFORMATION CONTACT: Ms. Shannon Maynard, (202) 606-5000, ext. 428.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques or other forms of information technology, e.g., permitting electronic submissions of responses.

Background

The Spirit of Service Awards enable the Corporation to recognize exceptional organizations and program participants from each of the Corporation's three programs, Senior Corps, AmeriCorps, and Learn and Serve America. For 2004, the Corporation plans to establish specific nomination guidelines for each of the programs and develop a formal nomination process, which involves voluntary information collection from non-government individuals.

Prior to 2003, AmeriCorps recognized its outstanding members annually through the All-AmeriCorps Awards, which were initiated in 1999 and presented by President Clinton as part of the 5th anniversary celebration of the program. Senior Corps had recognized its outstanding projects and volunteers at its own national conference, and Learn and Serve America recognized exemplary programs and participants through its Leaders School selection and the President's Student Service Awards.

Current Action

The Corporation is soliciting public comments so it can obtain approval from OMB for a three year time period of the Spirit of Service Awards nomination for its three programs. The goal is to establish a nomination process in order to select the annual Spirit of Service Award winners in time to receive their awards during the Corporation's Annual National Conference on Community Volunteering and National Service.

Part I

Type of Review: New collection.

Agency: Corporation for National and Community Service.

Title: Spirit of Service Awards Nomination Guidelines and Application—Senior Corps.

OMB Number: 3045-0091.

Agency Number: None.

Affected Public: Individuals or households, not-for-profit institutions, and State, local or tribal government.

Total Respondents: 200.

Frequency: One time.

Average Time Per Response: 3 hours.

Estimated Total Burden Hours: 600 hours.

Total Burden Cost (capital/startup): $9,900.

Total Burden Cost (operating/maintenance): $0.

Part II

Type of Review: New collection.

Agency: Corporation for National and Community Service.

Title: Spirit of Service Awards Nomination Guidelines and Application—AmeriCorps.

OMB Number: 3045-0092.

Agency Number: None.

Affected Public: Individuals or households, not-for-profit institutions, and State, local or tribal government.

Total Respondents: 200.

Frequency: One time.

Average Time Per Response: 3 hours.

Estimated Total Burden Hours: 600 hours.

Total Burden Cost (capital/startup): $9,900.

Total Burden Cost (operating/maintenance): $0.

Part III

Type of Review: New collection.

Agency: Corporation for National and Community Service.

Title: Spirit of Service Awards Nomination Guidelines and Application—Learn and Serve America.

OMB Number: 3045-0093.

Agency Number: None.

Affected Public: Individuals or households, not-for-profit institutions, and State, local or tribal government.

Total Respondents: 200.

Frequency: One time.

Average Time per Response: 3 hours.

Estimated Total Burden Hours: 600 hours.

Total Burden Cost (capital/startup): $9,900.

Total Burden Cost (operating/maintenance): $0.

Comments submitted in response to this notice will be summarized and/or included in the request for Office of Management and Budget approval of the information collection request; they will also become a matter of public record.

Dated: March 29, 2004.
Sandy Scott,
Acting Director, Office of Public Affairs.

[FR Doc. 04-7442 Filed 4-1-04; 8:45 am]

BILLING CODE 6050-$$-P